DEPARTMENT OF COMMERCE

Foreign-Trade Zones Board

[B-63-2020]

Foreign-Trade Zone (FTZ) 26—Atlanta, Georgia; Authorization of Production Activity; Zinus USA Inc. (Foam Bedding), McDonough, Georgia

On October 22, 2020, Zinus USA Inc., submitted a notification of proposed production activity to the FTZ Board for its facility within FTZ 26, in McDonough, Georgia.

The notification was processed in accordance with the regulations of the FTZ Board (15 CFR part 400), including notice in the Federal Register inviting public comment (85 FR 69312, November 2, 2020). On February 19, 2021, the applicant was notified of the FTZ Board's decision that no further review of the activity is warranted at this time. The production activity described in the notification was authorized, subject to the FTZ Act and the FTZ Board's regulations, including Section 400.14.

Dated: February 19, 2021.
Andrew McGilvray,
Executive Secretary.

[FR Doc. 2021-03786 Filed 2-23-21; 8:45 am]

BILLING CODE 3510-DS-P